DEPARTMENT OF COMMERCE

International Trade Administration

Withdrawal of the Regulatory Provisions Governing Targeted Dumping in Antidumping Duty Investigations; Extension of Time To Comment

AGENCY: Import Administration, International Trade Administration, Department of Commerce.

ACTION: Extension of comment period.

SUMMARY: On December 10, 2008, the Department of Commerce (“the Department”) published a notice in the Federal Register requesting comments regarding the Department's withdrawal of the regulatory provisions governing targeted dumping in antidumping duty investigations. The Department is extending the comment period to January 23, 2009.

DATES: To be assured of consideration, written comments must be received no later than January 23, 2009.

ADDRESSES: Written comments (original and two copies) should be sent to Import Administration, Central Records Unit, Room 1870, U.S. Department of Commerce, 14th Street & Pennsylvania Ave., NW., Washington, DC 20230.

FOR FURTHER INFORMATION CONTACT: Michael Rill, telephone (202) 482-3058.

Submission of Comments

The Department is extending the deadline for submitting comments to January 23, 2009. The Department will consider all comments received before the close of the comment period. Consideration of comments received after the end of the comment periods cannot be assured.

Persons wishing to comment should submit a signed original and two copies of each set of comments, along with a cover letter identifying the commentator's name and address, by the date specified above. The Department will not accept comments accompanied by a request that a part or all of the material be treated confidentially due to business proprietary concerns or for any other reason. The Department will return such comments and materials to the persons submitting the comments and will not consider them.

The Department also requests submission of comments in electronic form to accompany the required paper copies. Comments filed in electronic form should be submitted either by e-mail to the Webmaster below, or on CD-ROM, as comments submitted on diskettes are likely to be damaged by postal radiation treatment.

Comments received in electronic form will be made available to the public in Portable Document Format (PDF) on the Internet at the Import Administration Web site at the following address: http://ia.ita.doc.gov.

Any questions concerning file formatting, document conversion, access on the Internet, or other electronic filing issues should be addressed to Andrew Lee Beller, Import Administration Webmaster, at (202) 482-0866, e-mail address: webmaster-support@ita.doc.gov.

Dated: January 7, 2009.
Ronald K. Lorentzen,
Acting Assistant Secretary for Import Administration.

[FR Doc. E9-624 Filed 1-13-09; 8:45 am]

BILLING CODE 3510-DS-P